DEPARTMENT OF ENERGY

Federal Energy Regulatory Commission

[Project No. 6898-003]

Shenandoah Hydro Company, The Dam, LLC; Notice of Transfer of Exemption

1. On October 31, 2022, Shenandoah Hydro Company, exemptee for the 300-kilowatt Chapman Dam Hydroelectric Project No. 6898, filed a letter notifying the Commission that the project was transferred from Shenandoah Hydro Company to The Dam, LLC. The exemption from licensing was originally issued on June 9, 1983.¹ The project is located on the North Fork of the Shenandoah River, Shenandoah County, Virginia. The transfer of an exemption does not require Commission approval.

¹ Shenandoah Hydro Company, 23 FERC ¶ 62,032 (1983).

The Dam, LLC is now the exemptee of the Chapman Dam Hydroelectric Project No. 6898. All correspondence must be forwarded to Mr. Benjamin C. and Mrs. Susan F. Freakley, The Dam, LLC, 375 Morning Star Lane, Woodstock, VA 22664.

Dated: December 15, 2022.
Debbie-Anne A. Reese,
Deputy Secretary.

[FR Doc. 2022-27717 Filed 12-20-22; 8:45 am]

BILLING CODE 6717-01-P